DEPARTMENT OF THE TREASURY

Submission for OMB Review; Comment Request

AGENCY: Department of the Treasury.

ACTION: Notice.

SUMMARY: The Department of the Treasury will submit the following information collection request to the Office of Management and Budget (OMB) for review and clearance in accordance with the Paperwork Reduction Act of 1995, Public Law 104-13, on or after the date of publication of this notice.

DATES: Comments should be received on or before June 1, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, calling (202) 927-5331, or viewing the entire information collection request at www.reginfo.gov.

SUPPLEMENTARY INFORMATION:

Alcohol and Tobacco Tax and Trade Bureau (TTB)

OMB Number: 1513-0007.

Type of Review: Revision of a currently approved collection.

Title: Brewer's Report of Operations and Quarterly Brewer's Report of Operations.

Form: TTB F 5130.9, 5130.26.

Abstract: The Internal Revenue Code (IRC) requires brewers to file periodic reports of their brewing and associated operations. Brewers that anticipate an annual Federal excise tax liability of $50,000 or more with respect to beer must use TTB F 5130.9 to file monthly operational reports. Brewers that were liable for not more than $50,000 in Federal excise taxes with respect to beer in the preceding calendar year and that reasonably expect to be liable for not more than $50,000 in such taxes during the current calendar year may use either TTB F 5130.9 or the simplified TTB F 5130.26 to file quarterly operational reports. TTB uses these reports to determine whether the brewer's operations are in compliance with the requirements of Federal law and regulations. We also use this information to assist us in determining whether the brewer pays the proper Federal excise taxes in a timely and accurate manner.

Affected Public: Private Sector: Businesses or other for-profits.

Estimated Annual Burden Hours: 18,036.

OMB Number: 1513-0008.

Type of Review: Extension without change of a currently approved collection.

Title: Application and Permit to Ship Liquors and Articles of Puerto Rican Manufacture Taxpaid to the United States.

Form: TTB F 5170.7.

Abstract: Industry members use TTB F 5170.7 to document the shipment of taxpaid (or tax deferred) Puerto Rican distilled spirits and other alcohol products to the United States. Puerto Rican and U.S. Treasury Department officials review the form to certify that the products are either taxpaid or tax deferred under appropriate bond. This serves as a method of protecting the revenue.

Affected Public: Private Sector: Businesses or other for-profits.

Estimated Annual Burden Hours: 100.

OMB Number: 1513-0037.

Type of Review: Revision of a currently approved collection.

Title: Withdrawal of Spirits, Specially Denatured Spirits, or Wines for Exportation.

Form: TTB F 5100.11.

Abstract: Exporters complete TTB F 5100.11 to report the withdrawal of spirits, denatured spirits, and wines from internal revenue bonded premises, without payment of tax, for direct exportation, for transfer to a foreign trade zone, Customs manufacturer's bonded warehouse or Customs bonded warehouse, or for use as supplies on vessels or aircraft.

Affected Public: Private Sector: Businesses or other for-profits.

Estimated Annual Burden Hours: 1,500.

OMB Number: 1513-0040.

Type of Review: Revision of a currently approved collection.

Title: Application for Operating Permit Under 26 U.S.C. 5171(d).

Form: TTB F 5110.25.

Abstract: Applicants that wish to engage in the production, warehousing, or bottling of alcohol for industrial use, or that wish to warehouse bulk distilled spirits for non-industrial use without bottling, use TTB F 5110.25 to apply for an operation permit, as required by the Internal Revenue Code at 26 U.S.C. 5171(d). TTB National Revenue Center personnel use the information provided on this form to identify the applicant, the location of the business, the types of activities to be conducted, and the qualifications of the applicant.

Affected Public: Private Sector: Businesses or other for-profits.

Estimated Annual Burden Hours: 25.

OMB Number: 1513-0042.

Type of Review: Revision of a currently approved collection.

Title: Drawback on Distilled Spirits Exported.

Form: TTB F 5110.30.

Abstract: Persons who export tax-paid distilled spirits use TTB F 5110.30 to claim drawback of the Federal alcohol excise taxes paid. The form requests information regarding the claimant, the tax-paid spirits exported, the amount of tax to be refunded, and a certification by a U.S. government agent attesting to the exportation.

Affected Public: Private Sector: Businesses or other for-profits.

Estimated Annual Burden Hours: 1,200.

OMB Number: 1513-0043.

Type of Review: Extension without change of a currently approved collection.

Title: Application and Permit to Ship Puerto Rican Spirits to the United States Without Payment of Tax.

Form: TTB F 5110.31.

Abstract: TTB F 5110.31 is used by industry members to ship Puerto Rican distilled spirits in bulk into the United States without payment of tax. The form identifies the person in Puerto Rico shipping the spirits, from where shipments are to be made, the person in the U.S. receiving the spirits, and the amount of spirits to be shipped.

Affected Public: Private Sector: Businesses or other for-profits.

Estimated Annual Burden Hours: 750.

Dated: April 27, 2015.
Dawn D. Wolfgang,
Treasury PRA Clearance Officer.

[FR Doc. 2015-10091 Filed 4-29-15; 8:45 am]

BILLING CODE 4810-31P